DEPARTMENT OF HEALTH AND HUMAN SERVICES

Food and Drug Administration

[Docket No. FDA-2011-N-0010]

Cooperative Arrangement Between the United States Food and Drug Administration and the Inter-American Institute for Cooperation in Agriculture

AGENCY: Food and Drug Administration, HHS.

ACTION: Notice.

SUMMARY: The Food and Drug Administration (FDA) is providing notice of a cooperative arrangement between FDA and the Inter-American Institute for Cooperation in Agriculture. The purpose of the arrangement is to provide a framework between the two Agencies to facilitate the exchange of information and the development of projects of mutual interest.

DATES: The arrangement became effective on April 15, 2011, for a duration of 5 years.

FOR FURTHER INFORMATION CONTACT: Moises O'Neill, Office of International Programs, Food and Drug Administration, 3440 San Jose Pl., Washington, DC 20521-3440, Tel. 506-2519-2220.

SUPPLEMENTARY INFORMATION: In accordance with 21 CFR 20.108(a) and (c), which states that all written arrangements and understandings signed by FDA and other departments, Agencies, and organizations shall be published in the Federal Register, except those arrangements and memoranda of understanding between FDA and State or local government Agencies that are cooperative work-sharing arrangements, the Agency is publishing notice of this cooperative arrangement.

Dated: May 18, 2011.
Leslie Kux,
Acting Assistant Commissioner for Policy.

BILLING CODE 4160-01-P

[FR Doc. 2011-13440 Filed 5-27-11; 8:45 am]

BILLING CODE 4160-01-C